DEPARTMENT OF HEALTH AND HUMAN SERVICES

Indian Health Service

Request for Public Comment: 60-Day Proposed Information Collection: Final Rule To Implement Title V of the Tribal Self-Governance Amendments of 2000

SUMMARY: The Department of Health and Human Services (DHHS), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Indian Health Service (IHS) is providing a 60-day advance opportunity for public comment on a proposed extension of current information collection activity to be submitted to the Office of Management and Budget for review.

Proposed Collection: Title: 0917-0026, “Final Rule to Implement Title V of the Tribal Self-Governance Amendments of 2000”. Type of Information Collection Request: Extension, without revision, of currently approved information collection, 0917-0026, “Final Rule to Implement Title V of the Tribal Self-Governance Amendments of 2000”. Form Number: None. Forms: None. Need and Use of Information Collection: The “Tribal Self-Governance Amendments of 2000”, Pub. L. 106-206 (the act), repeals Title III of the Indian Self-Determination Act, Pub. L. 93-638, as amended, (ISDA) and enacts Title V that established a permanent Self-Governance program within DHHS. Thus, Indian and Alaska Native Tribes are now able to compact for the operation, control, and redesign of various IHS activities on a permanent basis. The final rule has been negotiated among representatives of Self-Governance and non-Self-Governance Tribes and the DHHS. The final rule included provision governing how DHHS/IHS carries out its responsibility to Indian Tribes under the Act and how Indian Tribes carry out their responsibilities under the Act. As required by section 517(b) of the Act, the Department has developed this final rule with active Tribal participation of Indian Tribes, inter-Tribal consortia, Tribal organizations and individual Tribal members, using the guidance of the Negotiated Rulemaking Act, 5 U.S.C. 561 et seq. Health status reporting requirements will be negotiated on an individual Tribal basis and included in individual compacts of funding agreements. Response to the data collection continues to be voluntary; however, submission of the data is essential to participation in the Tribal Self-Governance process. Self-Governance Tribes have the option of participating in a voluntary national uniform data collection effort with the IHS. The department is seeking continued OMB approval of the collection of information identified in the following sections of regulations: subpart C—Selection of Tribes for Participation in Self-Governance, subpart D and E—Compact and Funding Agreement, subpart N—Construction Projects, and Subpart P—Appeals. Affected Public: Individual Tribes. Type of Respondents: Tribal representatives.

The table below provides the estimated burden hours for this information collection:

Table.—Estimated Annual Burden Hours
CFR Section | Est. No. of respondents | Responses per respondent | Avg. burden hour per response | Total annual burden Hrs.
Subpart C—Eligibility criteria | 50 | 1 | 10.0 | 500
Subpart D—Self-governance compact and Subpart E—Funding agreement | 50 | 1 | 34.0 | 1,700
Subpart N—Construction | 30 | 1 | 40 | 1,200
Subpart P—Appeals | 8 | 1 | 40 | 320
Total Annual Burden |  |  |  | 3,720

There are no Capital Costs, Operating costs and/or Maintenance Costs to report.

Request for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Send Comments and Requests for Further Information: Send your written comments and requests for more information on the proposed collection or requests to obtain a copy of the data collection instrument(s) and instructions to: Mrs. Chris Rouleau, IHS Reports Clearance Officer, 12300 Twinbrook Parkway, Suite 450, Rockville, MD 20852-1601, call non-toll free (301) 443-5938, send via facsimile to (301) 443-2316, or send your e-mail requests, comments, and return address to: crouleau@hqe.ihs.gov.

Comment Due Date: your comments regarding this information collection are best assured of having their full effect if received within 60-days of the date of this publication.

Dated: July 28, 2005.
Charles W. Grim,
Assistant Surgeon General Director, Indian Health Service.

[FR Doc. 05-15280 Filed 8-2-05; 8:45 am]

BILLING CODE 4165-16-M